DEPARTMENT OF JUSTICE

Notice of Lodging of Proposed Consent Decree Under the Comprehensive Environmental Response, Compensation, and Liability Act and the Clean Water Act

On June 21, 2024, the Department of Justice lodged a proposed Consent Decree with the United States District Court for the District of Minnesota in the lawsuit entitled Regents of the University of Minnesota v. United States of America and E.I. DuPont De Nemours and Co., Case No. 17-cv-3690.

The proposed Consent Decree settles claims between the parties, including under the Comprehensive Environmental Response, Compensation, and Liability Act,42 U.S.C. 9607, 9613, the Minnesota Environmental Response and Liability Act, Minn. Stat. 115B.01, et seq., and alleging breach of contract. The claims in this case concern responsibility for environmental response actions and payment of response costs at a property owned by the University of Minnesota and formerly part of the Gopher Ordnance Works Site. Under the proposed Consent Decree, the United States would pay $13,000,000 to the University of Minnesota. Certain orders issued during the litigation of this case would be vacated.

The publication of this notice opens a period for public comment on the Consent Decree. Comments should be addressed to the Assistant Attorney General, Environment and Natural Resources Division, and should refer to University of Minnesota v. United States, et. al., D.J. Ref. No. 90-11-3-11915. All comments must be submitted no later than thirty (30) days after the publication of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the consent decree, you may request assistance by email or by mail to the addresses provided above for submitting comments.

Laura Thoms,
Assistant Section Chief, Environmental Enforcement Section, Environment and Natural Resources Division.

[FR Doc. 2024-14123 Filed 6-26-24; 8:45 am]

BILLING CODE 4410-15-P